DEPARTMENT OF TRANSPORTATION

Federal Aviation Administration

Office of Commercial Space Transportation; Notice of Availability and Request for Comment on a Draft Environmental Assessment (EA) for the Blue Origin West Texas Commercial Launch Site

AGENCY: Federal Aviation Administration (FAA), Office of Commercial Space Transportation (AST) is the lead Federal agency for the development of this EA.

ACTION: Notice of availability and request for comment.

SUMMARY: In accordance with National Environmental Policy Act (NEPA) regulations, the FAA is announcing the availability of and requesting comments on the Draft EA for the Blue Origin West Texas Commercial Space Launch Site.

Under the proposed action, the FAA would issue one or more experimental permits and/or licenses to Blue Origin to launch reusable launch vehicles (RLVs) ¹ on suborbital, ballistic trajectories. In addition, Blue Origin would construct a private launch site, which would include a vehicle processing facility, launch complex, vehicle landing and recovery area, space flight participant training facility, and other minor support facilities. The EA evaluates potential impacts to the environment from the proposed activities. The FAA may use the analysis in the EA as the basis for making a determination to prepare an Environmental Impact Statement or a Finding of No Significant Impact regarding the issuance of a license and/or permit(s) to Blue Origin.

¹ RLVs are launch vehicles that have stages or components that can return to Earth and be recovered or reused. A suborbital rocket is a vehicle, rocket-propelled in whole or in part, intended for flight on a suborbital trajectory, and the thrust of which is greater than its lift for the majority of the rocket-powered portion of its ascent. (49 U.S.C. 70102(19)).

DATES: The public comment period for the NEPA process begins with distribution of the Draft EA. To ensure that all comments can be addressed in the Final EA, comments must be received by the FAA no later than July 27, 2006. The Draft EA is available for download at http://ast.faa.gov. A paper copy of the Draft EA can also be viewed at the Van Horn City County Library at 410 Crockett Street, Van Horn, Texas 79855.

A public hearing will be held at 6:30 p.m., Tuesday, July 25, 2006 at the Van Horn Convention Center at 1801 West Broadway, Van Horn, Texas 79855.

Contact Information: Comments, statements, or questions concerning the Draft EA should be mailed to Mr. Doug Graham, FAA Environmental Specialist, FAA Blue Origin EA c/o ICF Consulting, 9300 Lee Highway, Fairfax, VA 22031. Comments can also be sent by e-mail to BlueOriginEA@icfi.com or by fax to 703-934-3951.

Additional Information: Under the proposed action, the FAA would issue one or more experimental permits and appropriate licenses to Blue Origin to authorize Blue Origin to conduct the activities described in the EA. Blue Origin proposes to launch space flight participant-carrying RLVs on suborbital, ballistic trajectories. To conduct these operations, Blue Origin proposes to construct a private launch site on privately-owned land in Culberson County, Texas.

Blue Origin proposes to develop, launch, and land a suborbital RLV referred to as the New Shepard Reusable Launch System. Blue Origin proposes to develop the RLV incrementally, beginning with low-altitude vehicle testing, progressing to higher-altitude testing, and culminating with commercial flights.

Blue Origin's proposed activities would include:

Construction of an RLV launch site and landing/recovery area,

Launch and landing/recovery operations,

Space flight participant training activities, and

Sustained commercial launch, flight, landing, and recovery of space flight participants.

The FAA considered the no action alternative in addition to the proposed action in the Draft EA. Two alternatives were considered but dismissed. One alternative would use an alternative facility configuration, and another alterative would use a different plot of land in Culberson County. Different locations of the proposed facility layout within the proposed site boundaries were also considered and dismissed. Under the no action alternative, the FAA would not issue permits or licenses to Blue Origin to conduct launch operations in Culberson County, Texas. Blue Origin would not conduct RLV testing or launch operations, and the proposed site in Culberson County would remain private property.

Potential impacts of the proposed action and alternatives were analyzed in the Draft EA. Potential environmental impacts of successful launches include impacts to the air resources, ecological resources, cultural/Native American resources, hazardous materials and hazardous waste management, health and safety, geology and soils, land use, noise, socioeconomics and environmental justice, transportation, visual and aesthetic resources, and water resources. Department of Transportation Section 4(f) lands are addressed as part of land use; floodplains, wetlands, and wild and scenic rivers are addressed as part of water resources; and natural resources and energy supply are addressed as part of socioeconomics. Potential impacts of the no action alternative would be the same as those described in the affected environment in the Draft EA. Potential cumulative impacts of the proposed action also are addressed in the Draft EA.

Date Issued: June 16, 2006.

Place Issued: Washington, DC.

Herbert Bachner,
Manager, Space Systems Development Division.

[FR Doc. E6-10191 Filed 6-27-06; 8:45 am]

BILLING CODE 4910-13-P